DEPARTMENT OF ENERGY

Federal Energy Regulatory Commission

Notice of Scoping Meeting and Soliciting Scoping Comments for an Applicant Prepared Environmental Assessment Using the Alternative Licensing Process

August 18, 2003.

a. Type of Application: Alternative Licensing Process.

b. Project No.: 2101.

c. Applicant: Sacramento Municipal Utility District (SMUD).

d. Name of Project: Upper American River Project.

e. Location: In the Rubicon River, Silver Creek, and South Fork American River watersheds in El Dorado and Sacramento counties, California. The project occupies federal lands within the El Dorado National Forest.

f. Filed Pursuant to: Federal Power Act, 16 U.S.C. 791(a)-825(r).

g. Applicant Contact: David F. Hanson, Project Manager, Hydro Relicensing at (916) 732-6703.

h. FERC Contact: James Fargo at (202) 502-6095; e-mail james.fargo@ferc.gov.

j. Deadline for filing scoping comments: September 17, 2003.

All documents (original and eight copies) should be filed with: Magalie R. Salas, Secretary, Federal Energy Regulatory Commission, 888 First Street, NE., Washington, DC 20426.

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

Scoping comments may be filed electronically via the Internet in lieu of paper. The Commission strongly encourages electronic filings. See 18 CFR 385.2001(a)(1)(iii) and the instructions on the Commission's Web site (http://www.ferc.gov) using the “e-library” link.

k. The Upper American River Project facilities consist of several existing reservoirs, a series of powerhouses and about 180 miles of transmission line. The project has a total installed capacity of 688,000 kilowatts.

Scoping Process

SMUD will complete and file a preliminary Environmental Assessment, in lieu of Exhibit E of the license application. This differs from the traditional process, in which an applicant consults with agencies, Indian tribes, NGOs, and other parties during preparation of the license application and before filing the application, but the Commission staff performs the environmental review after the application is filed. The alternative procedures are intended to simplify and expedite the licensing process by combining the pre-filing consultation and environmental review processes into a single process, to facilitate greater participation, and to improve communication and cooperation among the participants.

SMUD expects to file the APEA and the license application for the Upper American River Project with the Commission by July 2005. Although SMUD's intent is to prepare an EA, there is the possibility that an Environmental Impact Statement (EIS) will be required. Nevertheless, this meeting will satisfy the NEPA scoping requirements, irrespective of whether an EA or EIS is issued by the Commission.

The purpose of this notice is to inform you of the opportunity to participate in the upcoming scoping meetings identified below, and to solicit your scoping comments.

Scoping Meetings

SMUD and the Commission staff will hold three scoping meetings, (1) in the daytime and (2) in the evening, to help us identify the scope of issues to be addressed in the APEA.

The daytime scoping meeting will focus on resource agency concerns, while the evening scoping meetings are primarily for public input. All interested individuals, organizations, and agencies are invited to attend any of the meetings, and to help the staff in identifying the environmental issues that should be analyzed in the APEA. The times and locations of these meetings are as follows:

Date | Time | Location
September 9, Tuesday | 6 p.m.-8 p.m | SMUD Customer Services Center, 6301 S Street, Sacramento.
September 10, Wednesday | 9 a.m.-4 p.m | SMUD Customer Services Center, 6301 S Street, Sacramento.
September 11, Thursday | 6 p.m.-8 p.m | Building C, County Government Center, 2850 Fairlane Court, Placerville.

To help focus discussions, Scoping Document 1 is available for public review at the Sacramento Public Library (828 I Street), the El Dorado County Library (345 Fair Lane, Placerville) and on SMUD's hydro relicensing Web page http://www.smud.org/relicensing. Scoping Document 1 outlines the subject areas to be addressed in the APEA.

SD1 is available for review at the Commission in the Public Reference Room or may be viewed on the Commission's Web site at http://www.ferc.gov using the “FERRIS” link. Enter the docket number excluding the last three digits in the docket number field to access the document. For assistance, contact FERC Online Support at FERCOnlineSupport@ferc.gov or toll-free at 1-866-208-3676, or for TTY, (202) 502-8659.

You may also register online at http://www.ferc.gov/esubscribenow.htm to be notified via email of new filings and issuances related to this or other pending projects. For assistance, contact FERC Online Support.

Based on all written comments received, a Scoping Document 2 (SD2) may be issued. SD2 will include a revised list of issues, based on the scoping sessions.

Objectives

At the scoping meetings, the SMUD and FERC staff will: (1) Summarize the environmental issues tentatively identified for analysis in the APEA; (2) solicit from the meeting participants all available information, especially quantifiable data, on the resources at issue; (3) encourage statements from experts and the public on issues that should be analyzed in the APEA, including viewpoints in opposition to, or in support of, the staffs' preliminary views; (4) determine the resource issues to be addressed in the APEA; and (5) identify those issues that require a detailed analysis, as well as those issues that do not require a detailed analysis.

Procedures

The meetings will be recorded by a stenographer and will become part of the formal record of the Commission proceeding on the project.

Individuals, organizations, and agencies with environmental expertise and concerns are encouraged to attend the meetings and to help define and clarify the issues to be addressed in the APEA.

Magalie R. Salas,
Secretary.

[FR Doc. 03-21529 Filed 8-21-03; 8:45 am]

BILLING CODE 6717-01-P